DEPARTMENT OF HEALTH AND HUMAN SERVICES

Centers for Disease Control and Prevention

[Program Announcement 03015]

Unintentional Injury and Violence Prevention and Control Initiatives Related to the World Health Organization (WHO); Notice of Intent To Fund Single Eligibility Award

A. Purpose

The Centers for Disease Control and Prevention (CDC) announces the intent to award fiscal year (FY) 2003 funds for an international grant program to promote surveillance, research, and dissemination of expertise and information related to unintentional injury and violence prevention and control.

B. Eligible Applicant

Assistance will be provided only to the World Health Organization (WHO). WHO is the technical agency for health within the United Nations, they have access to all national health promotion and research sites, and they collaborate with other international organizations to coordinate research initiatives and disseminate violence prevention and control programs.

C. Funding

Approximately $109,000 is available in FY 2003 to fund this award. It is expected that the award will begin on or about March 30, 2003, and will be made for a 12-month budget period within a project period of up to three years.

D. Where To Obtain Additional Information

For general comments or questions about this announcement, contact: Technical Information Management, CDC Procurement and Grants Office, 2920 Brandywine Road, Atlanta, GA 30341-4146. Telephone: 770-488-2700.

For technical questions about this program, contact: Richard J. Waxweiler, Ph.D., Associate Director for Extramural Research, National Center for Injury Prevention and Control, Centers for Disease Control and Prevention (CDC), Mail Stop K-02, 4770 Buford Highway, NE., Atlanta, GA 30341. Telephone: (770) 488-4694. E-mail address: rwaxweiler@cdc.gov.

Dated: March 21, 2003.
Sandra R. Manning,
Director, Procurement and Grants Office, Centers for Disease Control and Prevention.

[FR Doc. 03-7456 Filed 3-27-03; 8:45 am]

BILLING CODE 4163-18-P